ENVIRONMENTAL PROTECTION AGENCY

[FRL-8222-8]

Agency Information Collection Activities OMB Responses

AGENCY: Environmental Protection Agency (EPA).

ACTION: Notice.

SUMMARY: This document announces the Office of Management and Budget's (OMB) response to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 0997.08; NSPS for Petroleum Dry Cleaners; in 40 CFR part 60, subpart JJJ; was approved 08/07/2006; OMB Number 2060-0079; expires 08/31/2009.

EPA ICR No. 0940.18; Ambient Air Quality Surveillance (Renewal); in 40 CFR part 58; was approved 08/07/2006; OMB Number 2060-0084; expires 08/31/2009.

EPA ICR No. 1711.05; Voluntary Customer Service Satisfaction Surveys; was approved 08/09/2006; OMB Number 2090-0019; expires 08/31/2009.

EPA ICR No. 2023.03; NESHAP for Clay Ceramics Manufacturing (Renewal); in 40 CFR part 63, subpart KKKKK; was approved 08/10/2006; OMB Number 2060-0513; expires 08/31/2009.

EPA ICR No. 1712.05; NESHAP for Shipbuilding and Ship Repair Facilities (Surface Coating); in 40 CFR part 63, subpart II; was approved 08/10/2006; OMB Number 2060-0330; expires 08/31/2009.

EPA ICR No. 2042.03; NESHAP for Semiconductor Manufacturing (Renewal); in 40 CFR part 63, subpart BBBBB; was approved 08/10/2006; OMB Number 2060-0519; expires 08/31/2009.

EPA ICR No. 0113.09; NESHAP for Mercury (Renewal); in 40 CFR part 61, subpart E; was approved 08/10/2006; OMB Number 2060-0097; expires 08/31/2009.

EPA ICR No. 1541.08; NESHAP for Benzene Waste Operations (Renewal); in 40 CFR part 61, subpart FF; was approved 08/10/2006; OMB Number 2060-0183; expires 08/31/2009.

EPA ICR No. 1891.04; NESHAP for Publicly Owned Treatment Works; in 40 CFR part 63, subpart VVV; was approved 08/10/2006; OMB Number 2060-0428; expires 08/31/2009.

EPA ICR No. 1938.03; NESHAP for Municipal Solid Waste Landfills (Renewal); in 40 CFR part 63, subpart AAAA; was approved 08/10/2006; OMB Number 2060-0505; expires 08/31/2009.

EPA ICR No. 2196.02; Standards of Performance for Stationary Compression Ignition Internal Combustion Engines (Final Rule); in 40 CFR part 60, subpart IIII; was approved 08/10/2006; OMB number 2060-0590; expires 08/31/2009.

EPA ICR No. 2003.03; NESHAP for Integrated Iron and Steel Manufacturing (Renewal); in 40 CFR part 63, subpart FFFFF; was approved 08/10/2006; OMB Number 2060-0517; expires 08/31/2009.

EPA ICR No. 1995.03; NESHAP for Coke Oven Pushing Quenching and Battery Stack (Renewal); in 40 CFR part 63, subpart CCCCC; was approved 08/10/2006; OMB Number 2060-0521; expires 08/31/2009.

EPA ICR No. 2029.03; NESHAP for Asphalt Processing and Asphalt Roofing Manufacturing (Renewal); in 40 CFR part 63, subpart LLLLL; was approved 08/10/2006; OMB Number 2060-0520; expires 08/31/2009.

EPA ICR No. 0595.09; Notice of Pesticide Registration by States to Meet a Special Local Need (SLN) Under FIFRA Section 23 (c); in 40 CFR part 162; was approved 08/11/2006; OMB Number 2070-0055; expires 08/31/2009.

EPA ICR No. 1899.03; State and Federal Emission Guidelines for Hospital/Medical Infectious Waste Incinerators (Renewal); in 40 CFR part 60, subpart Ce and 40 CFR part 62, subpart HHH; was approved 08/22/2006; OMB Number 2060-0422; expires 08/31/2009.

EPA ICR No. 1428.07; Trade Secret Claims for Emergency Planning and Community Right-to-Know Act (EPCRA Section 322) (Renewal); in 40 CFR part 350; was approved 08/30/2006; OMB Number 2050-0078; expires 08/31/2009.

Short Term Extensions

EPA ICR No. 1949.03; Implementation of Incentives Designed for EPA's National Environmental Performance Track Program (Final Rule); OMB Number 2010-0032; on 08/29/2006 OMB extended the expiration date to 10/31/2006.

Comment Filed

EPA ICR No. 2210.01; Alternative Work Practice to Detect Leaks from Equipment (Proposed Rule); in 40 CFR parts 60, 61, 63, and 63 subpart A); OMB filed comments on 08/10/2006.

EPA ICR No. 2222.01; Residual Risk Standards for NESHAP for Source Categories: Organics Hazardous Air Pollutants from the Synthetic Organic Chemical Manufacturing Industry (Proposed Rule); OMB filed comments on 08/10/2006

EPA ICR No. 2227.01; Standards of Performance for New Stationary Spark Ignition Internal Combustion Engines (Proposed Rule); OMB filed comments on 08/10/2006.

Dated: September 13, 2006.
Oscar Morales,
Director, Collection Strategies Division.

[FR Doc. 06-8174 Filed 9-22-06; 8:45 am]

BILLING CODE 6560-50-P